DEPARTMENT OF AGRICULTURE

Rural Utilities Service

Weather Radio Transmitter Grant Program

AGENCY: Rural Utilities Service, USDA.

ACTION: Notice.

SUMMARY: This notice provides an updated listing of proposed NOAA Weather Radio transmitter sites eligible for funding under the Weather Radio Transmitter Grant Program. The agency is not soliciting applications for the program at this time. This site listing updates and consolidates the three previous site listings published April 4, 2001, October 16, 2001, and December 24, 2002, in the Federal Register.

Further details on the program and eligibility are available in the NOFA in the April 4, 2001, Federal Register (66 FR 17857) or on the RUS Web site at http://www.usda.gov/rus/telecom/initiatives/weatherradio.htm.

Also available on the RUS Web site is a list of the approved grant applications.

DATES: Effective Date: April 8, 2005.

FOR FURTHER INFORMATION CONTACT: Jonathan P. Claffey, Acting Assistant Administrator, Telecommunications Program, Rural Utilities Service, STOP 1590, 1400 Independence Avenue, SW., Washington, DC 20250-1590, telephone (202) 720-9554, Facsimile (202) 720-0810.

SUPPLEMENTARY INFORMATION: On April 4, 2001, the Rural Utilities Service (RUS) published a Notice of Funds Availability (NOFA) in the Federal Register (66 FR 17857) announcing a new grant program, and the availability of grant funds under this program, to finance the installation of new transmitters to extend the coverage of the National Oceanic and Atmospheric Administration's Weather Radio system (NOAA Weather Radio) in rural America. Included in the NOFA was a listing of proposed NOAA Weather Radio transmitter sites that would be eligible for funding. The NOFA also stated that RUS would continue to update its list from time to time and would publish updates in the Federal Register.

On October 16, 2001, RUS published an updated site listing in the Federal Register (66 FR 52571) and notified the public that they could apply for a grant under the program for a site included in the April 4, 2001, or the October 16, 2001, site listings. On December 24, 2002, RUS published an additional updated site listing in the Federal Register (67 FR 78412) and notified the public that they could apply for a grant under the program for a site included in any of the three site listings published in the Federal Register.

Updated Site Listing

An area's need for a new NOAA Weather Radio transmitter is determined by its inherent risk of hazardous weather and the absence of adequate coverage by an existing transmitter. RUS, in consultation with the National Weather Service, has developed the attached listing of proposed transmitter sites.

Dated: April 1, 2005.
Curtis M. Anderson,
Acting Administrator, Rural Utilities Service.

BILLING CODE 3410-15-P

[FR Doc. 05-6991 Filed 4-7-05; 8:45 am]

BILLING CODE 3410-15-C